DEPARTMENT OF THE INTERIOR

Bureau of Land Management

DEPARTMENT OF AGRICULTURE

Forest Service

[NV-912-07-1220PA-006F]

Notice of Public Meeting: Recreation Subcommittee Meeting of the Bureau of Land Management, Nevada, Sierra Front-Northwestern Great Basin, Northeastern Great Basin and Mojave-Southern Great Basin Resource Advisory Councils

AGENCIES: Bureau of Land Management, Interior and Forest Service, Agriculture.

ACTION: Recreation Subcommittee Meeting.

SUMMARY: In accordance with the Federal Lands Recreation Enhancement Act of 2004 (FLREA), the Recreation Subcommittee will hold a meeting to finalize draft protocol and guidelines and to discuss membership needs for fiscal year 2008.

DATES: Wednesday, November 14, 2007, from 1 p.m. to 3 p.m. A public comment period will begin at 2:30 p.m.

ADDRESSES: Meeting place will be the Bureau of Land Management, Carson City Field Office, 5665 Morgan Mill Road, Carson City, Nevada.

FOR FURTHER INFORMATION CONTACT: Doran Sanchez, Chief, Office of Communications, (775) 861-6586, or Barbara Keleher, Outdoor Recreation Planner, (775) 861-6628, at the BLM Nevada State Office, 1340 Financial Blvd., Reno, Nevada.

SUPPLEMENTARY INFORMATION: The Federal Lands Recreation Enhancement Act (REA; Pub. L. 108-447), enacted on December 8, 2004, directs the Secretaries of the Interior or Agriculture, or both, to establish Recreation Resource Advisory Committees to provide advice and recommendations on recreation fees and fee areas in each State or region for Federal recreational lands and waters managed by the Bureau of Land Management (BLM) or Forest Service. The law allows the agencies to use existing Resource Advisory Councils (RACs) or to establish new Recreation RACs. For Nevada, a recreation subcommittee of three existing RACs has been designated to perform Recreation Resource Advisory Committee responsibilities pertaining to both BLM and Forest Service managed Federal lands and waters per the national interagency agreement between BLM and the Forest Service. This subcommittee will recommend new amenity fees and fee change proposals to the respective RAC of the appropriate geographic region.

An agenda will be available online at http://www.blm.gov/nv/. To receive a copy of the agenda, please call Barbara Keleher. Individuals who need special assistance such as sign language interpretation or other reasonable accommodations, please contact Barbara Keleher no later than 10 days prior to the meeting.

Dated: October 16, 2007.
Ron Wenker,
Bureau of Land Management, Nevada State Director.
Dated: October 16, 2007.
Ed Monnig,
Forest Service, Supervisor, Humboldt-Toiyabe National Forest.

[FR Doc. 07-5223 Filed 10-22-07; 8:45 am]

BILLING CODE 4310-HC-P